NATIONAL FOUNDATION OF THE ARTS AND THE HUMANITIES

Meeting of the National Museum Service Board

AGENCY: Institute of Museum and Library Services.

ACTION: Notice of meeting.

SUMMARY: This notice sets forth the agenda of a forthcoming meeting of the National Museum Services Board. This notice also describes the function of the board. Notice of this meeting is required under the Government through the Sunshine Act (Public Law 94-409) and regulations of the Institute of Museum and Library Services, 45 CFR 1180.84.

TIME/DATE: 9:00-12:00 pm on Friday, March 3, 2000.

STATUS: Open.

ADDRESS: The Polaris Room, The Ronald Reagan Building, 1300 Pennsylvania Avenue, NW, Washington, DC 20004, (202) 312-1300.

FOR FURTHER INFORMATION CONTACT: Elizabeth Lyons, Special Assistant to the Director, Institute of Museum and Library Services, 1100 Pennsylvania Avenue, NW, Room 510, Washington, DC 20506, (202) 606-4649.

SUPPLEMENTARY INFORMATION: The National Museum Services Board is established under the Museum Services Act, Title II of the Arts, Humanities, and Cultural Affairs Act of 1976, Public Law 94-462. The Board has responsibility for the general policies with respect to the powers, duties, and authorities vested in the Institute under the Museum Services Act.

The meeting on Friday, March 3, 2000 will be open to the public. If you need special accommodations due to a disability, please contact: Institute of Museum and Library Services, 1100 Pennsylvania Avenue, NW, Washington, DC 20506—(202) 606-8536—TDD (202) 606-8636 at least seven (7) days prior to the meeting date.

Agenda

77th Meeting of the National Museum Services Board

(In The Polaris Room at The Ronald Reagan Building, 1300 Pennsylvania Avenue, NW, Washington, DC 20004 on Friday, March 3, 2000)

9:00 am-12:00 pm

I. Chairperson's Welcome and Minutes of the 76th NMSB Meeting—November 5, 1999

II. Director's Report

III. Policy, Planning and Budget Report

IV. Legislative/Public Affairs Report

V. Office of Research and Technology Report

VI. Office of Museum Services Program Report

VII. Office of Library Services Program Report

Dated: February 10, 2000.
Linda Bell,
Director of Policy, Planning and Budget, National Foundation on the Arts and Humanities, Institute of Museum and Library Services.

[FR Doc. 00-4018 Filed 2-15-00; 4:37 pm]

BILLING CODE 7036-01-M